DEPARTMENT OF HOMELAND SECURITY

Coast Guard

33 CFR Part 165

[Docket No. USCG-2019-0292]

Safety Zones; Recurring Safety Zones in Captain of the Port Sault Sainte Marie—Mackinaw Area Visitors Bureau Friday Night Fireworks

AGENCY: Coast Guard, DHS.

ACTION: Notice of enforcement of regulation.

SUMMARY: The Coast Guard will enforce certain safety zones for the Mackinaw Area Visitors Bureau Friday Night Fireworks in Mackinaw City, Michigan, starting in May, 2019 to provide for the safety of life on navigable waterways. This action is necessary and intended to protect the safety of life and property on navigable waters prior to, during, and immediately after these events. During the enforcement period, no person or vessel may enter the respective safety zone without the permission of the Captain of the Port Sault Sainte Marie or a designated representative.

DATES: The regulations in 33 CFR 165.918 will be enforced for safety zone (1), Table 165.918, from 9 p.m. through 11:59 p.m. each Friday, or Saturday in case of inclement weather, from May 17, 2019, through August 30, 2019.

FOR FURTHER INFORMATION CONTACT: If you have questions about this notice of enforcement, call or email MST2 Blackledge, Waterways Management, Coast Guard Sector Sault Sainte Marie, U.S. Coast Guard; telephone (906) 253-2443, email Onnalee.A.Blackledge@uscg.mil.

SUPPLEMENTARY INFORMATION: The Coast Guard will enforce the Mackinaw Area Visitors Bureau Friday Night Fireworks safety zones listed as item (1) in Table 165.918 of 33 CFR 165.918 from 9 p.m. through 11:19 p.m. every Friday, or Saturday in case of inclement weather, from May 17, 2019 through August 30, 2019.

Entry into, transiting, or anchoring within the safety zone is prohibited unless authorized by the Captain of the Port Sault Sainte Marie or a designated on-scene representative. Those seeking permission to enter the safety zone may request permission from the Captain of Sault Sainte Marie via channel 16, VHF-FM. Vessels and persons granted permission to enter the safety zone shall obey the directions of the Captain of the Port Sault Sainte Marie or his designated representative. While within a safety zone, all vessels shall operate at the minimum speed necessary to maintain a safe course.

This notice of enforcement is issued under authority of 33 CFR 165.918, Safety Zones; Recurring safety zones in Captain of the Port Sault Sainte Marie zone, and 5 U.S.C. 552(a). In addition to this publication in the Federal Register, the Coast Guard will provide the maritime community with advance notification of this enforcement period via Broadcast Notice to Mariners or Local Notice to Mariners. If the Captain of the Port Sault Sainte Marie determines that the safety zone need not be enforced for the full duration stated in this notice he or she may use a Broadcast Notice to Mariners to grant general permission to enter the respective safety zone.

Dated: April 3, 2019.
P.S. Nelson,
Captain, U.S. Coast Guard, Captain of the Port Sault Sainte Marie.

[FR Doc. 2019-09647 Filed 5-9-19; 8:45 am]

BILLING CODE 9110-04-P